DEPARTMENT OF DEFENSE

Office of the Secretary

[Docket ID DoD-2012-HA-0149]

Proposed Collection; Comment Request

AGENCY: TRICARE Management Activity, Office of Administration, Personnel Security Division.

ACTION: Notice.

In compliance with Section 3506(c)(2)(A) of the Paperwork Reduction Act of 1995, the Office of the Assistant Secretary of Defense for Health Affairs announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 28, 2013.

ADDRESSES: You may submit comments, identified by docket number and title, by any of the following methods:

• Federal eRulemaking Portal: http://www.regulations.gov. Follow the instructions for submitting comments.

• Mail: Federal Docket Management System Office, 4800 Mark Center Drive, East Tower, 2nd floor, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: TRICARE Management Activity (TMA), Office of Administration, Personnel Security Division, ATTN: Chief, Personnel Security Division, 5111 Leesburg Pike, Skyline 5, Suite 810, Falls Church, VA 22041-3206 or call TMA, Office of Administration, Personnel Security Division, at 703-681-8707.

Title; Associated Form; and OMB Number: TMA Personnel Security Division Case Management System; OMB Control Number 0720-TBD.

Needs and Uses: The electronic information collection requirement is necessary to improve the current method of maintaining and recording the background investigation and security clearance status of TRICARE Management Activity contractor personnel who require access to TMA/DoD Information Technology resource and network systems, in accordance with Homeland Security Policy Directive-12 (HSPD-12), Policy for a Common Identification Standard for Federal Employees and Contractors; Executive Order 10450, Security Requirements for Government Employment; Executive Order 12968, Access to Classified Information and Background Investigations Standards; DoD 5200.2R, Personnel Security Program; Directive Type Memorandum 08-006, DoD Implementation of HSPD-12; Memorandum, May 18, 2009, DoD Implementation and Transition to the OPM eQIP; and Memorandum, September 9, 2009, TMA Implementation and Transition to the eQIP.

Affected Public: Federal personnel and/or Federal contractors.

Annual Burden Hours: 1,500.

Number of Respondents: 2,000.

Responses per Respondent: 1.

Average Burden per Response: 45 minutes.

Frequency: Annual.

SUPPLEMENTARY INFORMATION:

Summary of Information Collection

TRICARE Management Activity (TMA), Office of Administration, Personnel Security Division (PSD) routinely obtains and records personnel security background investigation information as a basis for determining suitability for Homeland Security Policy Directive (HSPD)-12 credentialing of TMA contractor personnel that require access to TMA/DoD Information Technology (IT) resources and network systems. TMA's HSPD-12 credential is known as the Common Access Card (CAC). The PSD makes interim determinations for issuance of the CAC for TMA contractor personnel who currently do not have the required background investigation, but do have a favorable Federal Bureau of Investigations (FBI) fingerprint report and/or favorable Advance National Agency Check (NAC), and a scheduled background investigation with the Office of Personnel Management (OPM). TMA PSD routinely maintains a record of background investigations requested from the Office of Personnel Management, Electronic Questionnaires for Investigations Processing (eQIP) system, and security clearance status of TMA contractors who require an approval before having access to TMA/DoD Information Technology (IT) resources and network systems or to sensitive data. The electronic information collection system will reduce the level of work and time involved for determining the status of returning contractors and approving CAC renewals.

Dated: November 26, 2012.
Aaron Siegel,
Alternate OSD Federal Register Liaison Officer, Department of Defense.

[FR Doc. 2012-28865 Filed 11-28-12; 8:45 am]

BILLING CODE 5001-06-P